DEPARTMENT OF ENERGY

Federal Energy Regulatory Commission

[Docket No. RP03-275-001]

Northern Border Pipeline Company; Notice of Refund Report

June 12, 2003.

Take notice that on June 10, 2003, Northern Border Pipeline Company (Northern Border) tendered for filing its refund report in accordance with the Commission's March 27, 2003 order in Docket No. RP03-275-000, (102 FERC ¶ 61,329).

Northern Border states that on May 8, 2003, it issued a refund totaling $10,260.958.78. Northern Border states that of this refund total, $4,136.145.10 was issued by checks and $6,124,813.68 was credited to shippers' invoices. Northern Border states that included in the above totals are carrying charges of $461,355.35, computed through May 8, 2003.

Northern Border states that copies of the filing has been served on all affected shippers and interested state commissions.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 23, 2003.

Magalie R. Salas,
Secretary.

[FR Doc. 03-15429 Filed 6-18-03; 8:45 am]

BILLING CODE 6717-01-P